DEPARTMENT OF HOMELAND SECURITY

Federal Emergency Management Agency

[FEMA-1511-DR]

Federated States of Micronesia; Amendment No. 4 to Notice of a Major Disaster Declaration; Correction

AGENCY: Federal Emergency Management Agency, Emergency Preparedness and Response Directorate, Department of Homeland Security.

ACTION: Notice; correction.

SUMMARY: The Federal Emergency Management Agency published a document in the Federal Register of May 14, 2004, concerning the Federated States of Micronesia; Amendment No. 4 to Notice of a Major Disaster Declaration. The document did not contain a full explanation of the assistance available to Yap State.

EFFECTIVE DATE: May 4, 2004.

FOR FURTHER INFORMATION CONTACT: Magda Ruiz, Recovery Division, Federal Emergency Management Agency, Washington, DC 20472, (202) 646-2705.

Correction

In the Federal Register of May 14, 2004, in FR Doc. 04-10936, on page 26876, in the second and third columns, correct the SUPPLEMENTARY INFORMATION caption to read:

SUPPLEMENTARY INFORMATION: The notice of a major disaster declaration for the Federated States of Micronesia is hereby amended to include the following area among those areas determined to have been adversely affected by the catastrophe declared a major disaster by the President in his declaration of April 10, 2004:

This designation of Individual Assistance does not include the entire Yap State but only the island of Yap proper within Yap State. Emergency Food Assistance will continue for the islands of Fais and Ulithi Atoll.

(The following Catalog of Federal Domestic Assistance Numbers (CFDA) are to be used for reporting and drawing funds: 97.030, Community Disaster Loans; 97.031, Cora Brown Fund Program; 97.032, Crisis Counseling; 97.033, Disaster Legal Services Program; 97.034, Disaster Unemployment Assistance (DUA); 97.046, Fire Management Assistance; 97.048, Individual and Household Housing; 97.049, Individual and Household Disaster Housing Operations; 97.050 Individual and Household Program-Other Needs, 97.036, Public Assistance Grants; 97.039, Hazard Mitigation Grant Program.)
Michael D. Brown,
Under Secretary, Emergency Preparedness and Response, Department of Homeland Security.

[FR Doc. 04-13458 Filed 6-14-04; 8:45 am]

BILLING CODE 9110-10-P